DEPARTMENT OF LABOR

Employment and Training Administration

[TA-W-74,689]

Amdocs, Inc., Global Support Services, Advertising and Media AT&T Division, New Haven, CT; Notice of Revised Determination on Reconsideration

By application dated December 22, 2010, the petitioner requested administrative reconsideration of the Department's negative determination regarding the eligibility of workers and former workers of Amdocs, Inc., Global Support Services, Advertising and Media AT&T Division, New Haven, Connecticut to apply for Trade Adjustment Assistance (TAA). On January 21, 2011, the Department issued a Notice of Affirmative Determination Regarding Application for Reconsideration applicable to workers of the subject firm. The Notice was published in the Federal Register on February 22, 2011 (76 FR 5831). The subject workers are engaged in employment related to the supply of development, testing, including sanity and regression testing, and production support services related to computer systems.

During the reconsideration investigation, the Department received information that revealed that the subject firm had shifted to a foreign country a portion of the supply of services like or directly competitive with the services supplied by the subject workers, and that the shift in services contributed importantly to worker group separations at the subject firm.

Conclusion

After careful review of the additional facts obtained on reconsideration, I determine that workers of the subject firm, who are engaged in employment related to the supply of development, testing, including sanity and regression testing, and production support services related to computer systems, meet the worker group certification criteria under Section 222(a) of the Act, 19 U.S.C. 2272(a). In accordance with Section 223 of the Act, 19 U.S.C. 2273, I make the following certification:

All workers of Amdocs, Inc., Global Support Services, Advertising and Media AT&T Division, New Haven, Connecticut, who became totally or partially separated from employment on or after September 29, 2009, through two years from the date of this revised certification, and all workers in the group threatened with total or partial separation from employment on date of certification through two years from the date of certification, are eligible to apply for adjustment assistance under Chapter 2 of Title II of the Trade Act of 1974, as amended.

Signed in Washington, DC, this 4th day of March 2011.
Del Min Amy Chen,
Certifying Officer, Office of Trade Adjustment Assistance.

[FR Doc. 2011-6187 Filed 3-16-11; 8:45 am]

BILLING CODE 4510-FN-P